DEPARTMENT OF ENERGY

Federal Energy Regulatory Commission

Combined Notice of Filings #1

December 3, 2007.

Take notice that the Commission has received the following Natural Gas Pipeline Rate and Refund Report filings:

Docket Numbers: RP97-28-021.

Applicants: Wyoming Interstate Company, Ltd.

Description: Wyoming Interstate Co, Ltd submits 3rd Revised Sheet 103 to FERC Gas Tariff, 2nd Revised Volume 2 for acceptance.

Filed Date: 11/29/2007.

Accession Number: 20071130-0137.

Comment Date: 5 p.m. Eastern Time on Tuesday, December 11, 2007.

Docket Numbers: RP97-255-078.

Applicants: TransColorado Gas Transmission Company

Description: TransColorado Gas Transmission Company submits Seventeenth Revised Sheet 21 et. al. to FERC Gas Tariff, First Revised Volume 1.

Filed Date: 11/21/2007.

Accession Number: 20071130-0134

Comment Date: 5 p.m. Eastern Time on Monday, December 10, 2007.

Docket Numbers: RP99-176-145.

Applicants: Natural Gas Pipeline Co. of America Natural Gas Pipeline Company of America.

Description: Natural Gas Pipeline Company of America submits Amendment 1 to the Transportation Rate Schedule FTS Agreement with the negotiated rate exhibit etc.

Filed Date: 11/27/2007.

Accession Number: 20071128-0101.

Comment Date: 5 p.m. Eastern Time on Monday, December 10, 2007.

Docket Numbers: RP99-176-146.

Applicants: Natural Gas Pipeline Co of America

Description: Natural Gas Pipeline Co of America submits Original Sheet 26B.06 et. al. to FERC Gas Tariff, Sixth Revised Volume 1, to be effective 12/1/07.

Filed Date: 11/30/2007.

Accession Number: 20071130-0153.

Comment Date: 5 p.m. Eastern Time on Wednesday, December 12, 2007.

Docket Numbers: RP06-200-039.

Applicants: Rockies Express Pipeline LLC.

Description: Rockies Express Pipeline LLC submits First Revised Sheet 8D et. Al. to FERC Gas Tariff, Second Revised Volume 1, to be effective 12/1/07.

Filed Date: 11/30/2007.

Accession Number: 20071130-0155.

Comment Date: 5 p.m. Eastern Time on Wednesday, December 12, 2007.

Docket Numbers: RP07-320-002.

Applicants: Colorado Interstate Gas Company.

Description: Colorado Interstate Gas Company submits Sub Forty-Fourth Revised Sheet 11A et. al. to FERC Gas Tariff, FERC Gas Tariff, First Revised Volume 1, effective 4/4/07 et. al.

Filed Date: 11/28/2007.

Accession Number: 20071129-0093.

Comment Date: 5 p.m. Eastern Time on Monday, December 10, 2007.

Docket Numbers: RP07-396-003.

Applicants: Tennessee Gas Pipeline Company

Description: Tennessee Gas Pipeline Company submits 2nd Substitute Ninth Revised Sheet 324 to FERC Gas Tariff, Fifth Revised Volume 1.

Filed Date: 11/27/2007.

Accession Number: 20071128-0102.

Comment Date: 5 p.m. Eastern Time on Monday, December 10, 2007.

Docket Numbers: RP98-18-030.

Applicants: Iroquois Gas Transmission System, L.P.

Description: Iroquois Gas Transmission System, LP submits First Revised Sheet 6K to FERC Gas Tariff, First Revised Volume 1, to be effective 12/1/07.

Filed Date: 11/30/2007.

Accession Number: 20071130-0154.

Comment Date: 5 p.m. Eastern Time on Wednesday, December 12, 2007.

Docket Numbers: RP08-73-000.

Applicants: Texas Eastern Transmission LP

Description: Texas Eastern Transmission, LP submits a petition for waiver of the capacity release mechanism set forth in Section 3.14 of its FERC Gas Tariff, Seventh Revised Volume 1.

Filed Date: 11/27/2007.

Accession Number: 20071129-0071.

Comment Date: 5 p.m. Eastern Time on Monday, December 10, 2007.

Docket Numbers: RP08-74-000.

Applicants: CenterPoint Energy—Mississippi River Tra.

Description: CenterPoint Energy—Mississippi River Transmission Corp submits its Annual Report of Penalty Revenue Credits for the period ending 7/31/07.

Filed Date: 11/28/2007.

Accession Number: 20071129-0070.

Comment Date: 5 p.m. Eastern Time on Monday, December 10, 2007.

Docket Numbers: RP08-75-000.

Applicants: Southern Star Central Gas Pipeline, Inc.

Description: Southern Star Central Gas Pipeline, Inc submits its report of net revenue received from cash-outs for the period 10/1/06 through 9/30/07 etc.

Filed Date: 11/29/2007.

Accession Number: 20071130-0021.

Comment Date: 5 p.m. Eastern Time on Tuesday, December 11, 2007.

Docket Numbers: RP08-76-000.

Applicants: Ozark Gas Transmission, L.L.C.

Description: Ozark Gas Transmission, LLC submits Third Revised Sheet 109A to FERC Gas Tariff, Original Volume 1, effective 12/1/07.

Filed Date: 11/29/2007.

Accession Number: 20071130-0020.

Comment Date: 5 p.m. Eastern Time on Tuesday, December 11, 2007.

Docket Numbers: RP08-77-000.

Applicants: Gulf South Pipeline Company, LP.

Description: Gulf South Pipeline Company, LP submits its First Revised Sheet 0 and 1 et. al. to its FERC Gas Tariff, Sixth Revised Volume 1, to be effective 1/1/08.

Filed Date: 11/29/2007.

Accession Number: 20071130-0135.

Comment Date: 5 p.m. Eastern Time on Tuesday, December 11, 2007.

Docket Numbers: RP08-78-000.

Applicants: Great Lakes Gas Transmission LP.

Description: Great Lakes Gas Transmission Limited Partnership submits its Twenty-Second Revised Sheet 1 et. al. to its FERC Gas Tariff, Second Revised Volume 1.

Filed Date: 11/29/2007.

Accession Number: 20071130-0136.

Comment Date: 5 p.m. Eastern Time on Tuesday, December 11, 2007.

Docket Numbers: RP08-79-000.

Applicants: Southern Natural Gas Company.

Description: Southern Natural Gas Co. submits Schedule 1 of their FERC Gas Tariff, annual reconciliation of their storage gas costs to reflect differences between the cost.

Filed Date: 11/29/2007.

Accession Number: 20071130-0138.

Comment Date: 5 p.m. Eastern Time on Tuesday, December 11, 2007.

Docket Numbers: RP08-80-000.

Applicants: Texas Eastern Transmission LP.

Description: Texas Eastern Transmission, LP submits Second Revised Sheet 537A et. al. to FERC Gas Tariff, Seventh Revised Volume 1, to be effective 1/1/08.

Filed Date: 11/29/2007.

Accession Number: 20071130-0152.

Comment Date: 5 p.m. Eastern Time on Tuesday, December 11, 2007.

Docket Numbers: RP08-81-000.

Applicants: Texas Gas Transmission. LLC.

Description: Texas Gas Transmission LLC submits Fourth Revised Sheet 36A to FERC Gas Tariff, Second Revised Volume 1, to be effective 1/1/08.

Filed Date: 11/30/2007.

Accession Number: 20071130-0151.

Comment Date: 5 p.m. Eastern Time on Wednesday, December 12, 2007.

Docket Numbers: RP08-82-000.

Applicants: Kern River Gas Transmission Company

Description: Kern River Gas Transmission Co. submits Fourth Revised Eighteenth Sheet 5 et. al. to FERC Gas Tariff, Second Revised Volume 1, to be effective 1/1/08.

Filed Date: 11/30/2007.

Accession Number: 20071130-0150.

Comment Date: 5 p.m. Eastern Time on Wednesday, December 12, 2007.

Docket Numbers: RP08-83-000.

Applicants: Texas Eastern Transmission LP.

Description: Texas Eastern Transmission, LP submits First Revised Sheet 982 et. al. to FERC Gas Tariff, Seventh Revised Volume 1, to be effective 12/30/07.

Filed Date: 11/29/2007.

Accession Number: 20071130-0149.

Comment Date: 5 p.m. Eastern Time on Tuesday, December 11, 2007.

Docket Numbers: RP08-84-000.

Applicants: Southern Star Central Gas Pipeline, Inc.

Description: Southern Star Central Gas Pipeline, Inc. submits Seventh Revised Sheet 12 to FERC Gas Tariff, Original Volume 1, to be effective 1/1/08.

Filed Date: 11/30/2007.

Accession Number: 20071130-0148.

Comment Date: 5 p.m. Eastern Time on Wednesday, December 12, 2007.

Docket Numbers: RP08-85-000.

Applicants: OkTex Pipeline Company, L.L.C.

Description: OkTex Pipeline Co, LLC submits Fifth Revised Sheet 1 et. al. to FERC Gas Tariff, Original Volume 1, to be effective 1/1/08.

Filed Date: 11/30/2007.

Accession Number: 20071130-0147.

Comment Date: 5 p.m. Eastern Time on Wednesday, December 12, 2007.

Docket Numbers: RP08-86-000.

Applicants: Rockies Express Pipeline LLC.

Description: Rockies Express Pipeline LLC submits First Revised Sheet 234 et. al. to FERC Gas Tariff, Second Revised Volume 1, to be effective 1/1/08.

Filed Date: 11/30/2007.

Accession Number: 20071130-0145.

Comment Date: 5 p.m. Eastern Time on Wednesday, December 12, 2007.

Docket Numbers: RP08-87-000.

Applicants: Quest Pipelines (KPC).

Description: Quest Pipelines (KPC) submits the Interruptible Revenue Credit Report to FERC Gas Tariff, First Revised Volume 1, for the twelve-month period ending 9/30/07.

Filed Date: 11/30/2007.

Accession Number: 20071130-0146.

Comment Date: 5 p.m. Eastern Time on Wednesday, December 12, 2007.

Docket Numbers: RP08-88-000.

Applicants: National Fuel Gas Supply Corporation.

Description: National Fuel Gas Supply Corp submits an informational filing showing the calculation of its Transportation and Storage Cost Adjustment to its FERC Gas Tariff, Fourth Revised Volume 1.

Filed Date: 11/30/2007.

Accession Number: 20071130-0144.

Comment Date: 5 p.m. Eastern Time on Wednesday, December 12, 2007.

Docket Numbers: RP08-89-000.

Applicants: Questar Overthrust Pipeline Company.

Description: Questar Overthrust Pipeline Co submits First Revised Sheet 11 et. al. to FERC Gas Tariff, Second Revised Volume 1-A, to be effective 1/1/08.

Filed Date: 11/30/2007.

Accession Number: 20071130-0143.

Comment Date: 5 p.m. Eastern Time on Wednesday, December 12, 2007.

Docket Numbers: RP08-90-000.

Applicants: Rockies Express Pipeline LLC.

Description: Rockies Express Pipeline LLC submits First Revised Sheet 1 et. al. to FERC Gas Tariff, Second Revised Volume 1, to be effective 1/1/08.

Filed Date: 11/30/2007.

Accession Number: 20071130-0142.

Comment Date: 5 p.m. Eastern Time on Wednesday, December 12, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Acting Deputy Secretary.

[FR Doc. E7-23752 Filed 12-6-07; 8:45 am]

BILLING CODE 6717-01-P